ENVIRONMENTAL PROTECTION AGENCY

40 CFR Part 52

[EPA-R10-OAR-2023-0195, FRL-10612-03-R10]

Air Plan Approval; Idaho: Inspection and Maintenance Program Removal; Extension of Comment Period; Correction

AGENCY: Environmental Protection Agency (EPA).

ACTION: Proposed rule; extension of comment period and correction.

SUMMARY: On March 30, 2023, the Environmental Protection Agency (EPA) proposed to approve revisions to the Idaho State Implementation Plan (SIP) submitted by the State of Idaho (Idaho or the State) on December 29, 2022. The proposed revision, applicable in the Boise-Northern Ada County Carbon Monoxide area (Northern Ada County CO area) in Idaho, removes the Inspection and Maintenance (I/M) program. In that publication, we supplied an incorrect docket number for commenters to use when sending comments. The correct docket number is EPA-R10-OAR-2023-0195. The EPA is also announcing the extension of the comment period for the proposed rulemaking.

DATES: The public comment period for the proposal published in the Federal Register on March 30, 2023 (88 FR 19030) is extended from May 1, 2023 to May 22, 2023. Written comments must be received on or before May 22, 2023.

ADDRESSES: Submit your comments, identified by Docket ID No. EPA-R10-OAR-2023-0195, at https://www.regulations.gov. Follow the online instructions for submitting comments. Once submitted, comments cannot be edited or removed from Regulations.gov. The EPA may publish any comment received to its public docket. Do not electronically submit any information you consider to be Confidential Business Information (CBI) or other information the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Claudia Vaupel, EPA Region 10 at (206) 553-6121, or vaupel.claudia@epa.gov.

SUPPLEMENTARY INFORMATION:

Correction

In the Federal Register of March 30, 2023 (88 FR 19030), in FR Doc. 2023-06461, on page 19030, the following corrections are made:

1. On page 19030, in the first column, under the document heading, remove EPA's Docket ID No. “EPA-R10-OAR-2023-0012” and replace it with “EPA-R10-OAR-2023-0195”; and

2. On page 19030, in the second column, in the ADDRESSES section, line 2, remove EPA's Docket ID No. “EPA-R10-OAR-2023-0012” and replace it with “EPA-R10-OAR-2023-0195”.

Dated: April 18, 2023.
Casey Sixkiller,
Regional Administrator, Region 10.

[FR Doc. 2023-08505 Filed 4-20-23; 8:45 am]

BILLING CODE 6560-50-P